FEDERAL MARITIME COMMISSION

Ocean Transportation Intermediary License; Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants:

Regal Shipping Inc. dba Sealines International dba Shipping Line, 333 Southern Blvd., Suite 404, West Palm Beach, FL 33405. Officer: Edward T. Nevins, President (Qualifying Individual).

Inter-Continental Trading, Inc. dba Yuan Mao Logistics dba Inter-Continental Trading Group, Inc., 1224 Santa Anita Avenue, #F, South El Monte, CA 91733. Officers: Shun Li, Secretary (Qualifying Individual), Cheng Zhou, Zhou, President.

Non-Vessel-Operating Common Carrier and Ocean Freight Forwarder Transportation Intermediary Applicants:

Interport Freight Services, Inc., 370 McClellan Highway, East Boston, MA 02128. Officer: Joseph D'Urso, President (Qualifying Individual).

Sea Shipping Line (California) Inc., 9401 San Leandro Street, Oakland, CA 94683. Officers: Frank Rosenberg, President (Qualifying Individual), Fred Morgenthaler, Secretary.

Ocean Freight Forwarder—Ocean Transportation Intermediary Applicants:

UCB Logistics, Inc., 5777 W. Century Blvd., Suite 590, Los Angeles, CA 90045. Officers: Robert A. Carranza, Vice President (Qualifying Individual), Young S. Chang, President.

Traffich Tech International, US, LLC, Crystal Plaza One, 2001 Jefferson Davis Highway, Suite 1111, Arlington, VA 22202. Officer: Collin Anday, Director (Qualifying Individual).

Dated: April 15, 2005.
Bryant L. VanBrakle,
Secretary.

[FR Doc. 05-7956 Filed 4-20-05; 8:45 am]

BILLING CODE 6730-01-P